DEPARTMENT OF THE TREASURY

United States Mint

Notification of Citizens Coinage Advisory Committee April 2005 Public Meeting

SUMMARY: Pursuant to United States Code, Title 31, section 5135 (b)(8)(C), the United States Mint announces a previously unscheduled Citizens Coinage Advisory Committee (CCAC) public meeting scheduled for April 28, 2005. The purpose of this meeting is to advise the Secretary of the Treasury on themes and designs pertaining to the coinage of the United States and for other purposes.

Date: April 28, 2005.

Time: 1 p.m. to 2 p.m.

Location: Via Videoconference at the United States Mint; 801 9th Street, NW., Washington, DC; 2nd floor, Conference Room C.

Subject: Consider themes for a 24-Karat bullion coin and other business.

Interested persons should call 202-354-7502 for the latest update on meeting time, and location.

Public Law 108-15 established the CCAC to:

• Advise the Secretary of the Treasury on any theme or design proposals relating to circulating coinage, bullion coinage, Congressional gold medals, and national and other medals.

• Advise the Secretary of the Treasury with regard to the events, persons, or places to be commemorated by the issuance of commemorative coins in each of the five calendar years succeeding the year in which a commemorative coin designation is made.

• Make recommendations with respect to the mintage level for any commemorative coin recommended.

FOR FURTHER INFORMATION CONTACT: Madelyn Simmons Marchessault, United States Mint Liaison to the CCAC, 801 Ninth Street, NW., Washington, DC 20220, or call 202-354-6669.

Any member of the public interested in submitting matters for the CCAC's consideration is invited to submit them by fax to the following number: 202-756-6830.

Authority: 31 U.S.C. 5135(b)(8)(C).

Dated: April 14, 2005.
Henrietta Holsman Fore,
Director, United States Mint.

[FR Doc. 05-7840 Filed 4-18-05; 8:45 am]

BILLING CODE 4810-37-P